DEPARTMENT OF DEFENSE

Department of the Army, Corps of Engineers

Availability of Exclusive or Partially Exclusive Licenses

AGENCY: U.S. Army Corps of Engineers, DoD.

ACTION: Notice.

SUMMARY: The Department of the Army, U.S. Army Corps of Engineers, announces the general availability of exclusive, or partially exclusive licenses under the following patents. Any license granted shall comply with 35 U.S.C. 209 and 37 CFR Part 404.

Patent Number: 5,849,984

Title: Method and System for Treating Waste Nitrocellulose

Issue Date: 12/15/98

Patent Number: 5,858,082

Title: Self-Interlocking Reinforcement Fibers

Issue Date: 1/12/99

Patent Number: 5,861,756

Title: Method of Detecting Accretion of Frazil Ice on Water

Issue Date: 1/19/99

Patent Number: 5,863,483

Title: Shock-Absorbing Block

Issue Date: 1/26/99

Patent Number: 5,864,059

Title: Self-Recording Snow Depth Probe

Issue Date: 1/26/99

Patent Number: 5,865,439

Title: Pop-Up Target System

Issue Date: 2/2/99

Patent Number: 5,888,559

Title: Press for Compacting Plastic Explosive Material

Issue Date: 3/30/99

Patent Number: 5,890,836

Title: Interlocking Blocks for Stream Erosion Control

Issue Date: 4/6/99

Patent Number: 5,900,820

Title: System and Method for Detection of Frazil Ice on Underwater Grating

Issue Date: 5/4/99

Patent Number: 5,902,939

Title: Penetrometer Sampler System for Subsurface Spectral Analysis of Contaminated Media

Issue Date: 5/11/99

Patent Number: 5,913,179

Title: Method for Spatial and Temporal Analysis of Nested Graphical Data

Issue Date: 6/15/99

Patent Number: 5,995,451

Title: Multiple Sensor Fish Surrogate Interface System for Acoustic and Hydraulic Data Collection and Analysis

Issue Date: 11/30/99

Patent Number: 6,003,251

Title: Debris Separator for Dredge or Slurry Pump

Issue Date: 12/21/99

Patent Number: 6,032,538

Title: Pressure Sensor Mounting Device for High Temperature Environments

Issue Date: 3/7/00

Patent Number: 6,047,782

Title: Assembly and Method for Extracting Discrete Soil Samples

Issue Date: 4/11/00

Patent Number: 6,053,479

Title: Self-Aligning Vortex Snow Fence

Issue Date: 4/25/00

Patent Number: 6,064,760

Title: Method for Rigorous Reshaping of Stereo Imagery with Digital Photogrammetric Workstation

Issue Date: 5/16/00

Patent Number: 6,084,393

Title: Scour Probe Assembly

Issue Date: 7/4/00

Patent Number: 6,095,052

Title: Corrosion Resistant Metal Body, Bullet Blank, and Bullet and Method for Making Same

Issue Date: 8/1/00

Patent Number: 6,104,298

Title: Roof Moisture Detection Assembly

Issue Date: 8/15/00

Patent Number: 6,109,486

Title: Dry Sand Pluviation Device

Issue Date: 8/29/00

Patent Number: 6,116,353

Title: Method and Apparatus for Installing a Micro-Well with a Penetrometer

Issue Date: 9/12/00

ADDRESSES: Humphreys Engineer Center Support Activity, Office of Counsel, 7701 Telegraph Road, Alexandria, Virginia 22315-3860.

DATES: Applications for an exclusive or partially exclusive license may be submitted at any time from the date of this notice. However, no exclusive or partially exclusive license shall be granted until 90 days from the date of this notice.

FOR FURTHER INFORMATION CONTACT: Patricia L. Howland (703) 428-6672 or Alease J. Berry, (703) 428-8160.

SUPPLEMENTARY INFORMATION: USP 5,849,984—A method for treating waste nitrocellulose, the method comprising the steps of treating nitrocellulose with acid in a hydrolysis process to break the nitrocellulose down to glucose, recovering a majority of the acid by electrodyialysis, neutralizing a remainder of the acid, and fermenting the glucose to convert the glucose to a useful product. The invention further comprises a system for performing the above method.

USP 5,858,082—The invention's first embodiment of uses shape memory alloy (SMA) fibers that are blended into a concrete composite material as straight fibers and are made to deform themselves and anchor and interlock themselves after dispersement in the composite material resulting in a more evenly distributed and interlocked fiber reinforcement of the cementitious material. A self-shaping fiber can be imparted to the concrete material by making the fibers out of SMA such as nickel-titanium alloy known as nitinol where the cementitious composite material mixture is briefly heated above the “transition” temperature prior to hardening that causes the fibers to change shape. Nitinol fibers are used alone in place of conventional steel fibers. A second embodiment uses conventional coiled metal steel fiber combined with a SMA clip for retaining the coiled metal fiber during the blending of this clipped fiber into a cementitious material with required heating yielding a shape change of the coiled metal fibers ultimately resulting in improved reinforcement characteristics.

USP 5,861,756—The spaced plates of a capacitor are immersed in water adjacent water intake grating so that water flowing toward the grating passes between and in contact with the plates so that frazil ice may accrete on the facing surfaces of the plates. As accretion occurs, the capacitance changes to indicate the amount of accretion of frazil ice which is detected thereby providing an indication of the amount of accretion of frazil ice on the grating.

USP 5,863,483—Shock-absorbing blocks for bullet stops at firing ranges and for traffic control are made by encasing scrap rubber tires in concrete. To ensure firm attachment of the tires to the concrete, reinforcements such as wire loops are fastened to the tire. To prevent the formation of air pockets during the pouring of the concrete mixture into a mold holding the tire, vent holes are punched into the side walls of the tire. To allow the concrete mixture to flow under the tire in the mold, the tire is propped up with support blocks. Wires may be strung across the top of the tire and attached to the side walls of the mold to prevent movement of the tire while the concrete is being poured into the mold. The concrete mixture may contain an aqueous foam additive, a stabilizer, and fiber reinforcements such as steel or organic polymers.

USP 5,864,059—A snow probe device with a portable data logger that measures snow depths in snow covered areas. The snow probe components include: (i) A linear displacement magnetostrictive transducer composed of a long probe shaft with an internal magnetostrictive transducer filament that operates in conjunction with a small electronics package for signal generation and detection; (ii) a floating plate assembly that includes a magnet that slides on the probe shaft along with a floating plate that rests upon the snow's surface during a measurement event; (iii) a pointed tip designed for easy penetration of snow attached at the probe's bottom end portion; (iv) a thumb switch for actuating measurements on a cylindrical handle attached at the upper end of the probe shaft; and (v) a data logger for controlling and recording the magnetostrictive transducer measurements. Optionally, the device can include a polar fleece sleeve to thermally insulate the transducer's electronics package and a digital counter to record the number of measurements performed.

USP 5,865,439—The invention is a pop-up target system wherein a three-dimensional target is raised by a knee-like action. The target may take the form of a head and torso manufactured in two parts, a front half and a back half, which are hinged at the top of the head portion and may incorporate a thick, relatively massive material which will absorb incoming bullets. The bases of the torso halves are each mounted through hinges to two separate four-wheeled platforms or trucks which are constrained by tracks or guide cables to move linearly to move the bases of the torso halves together in an upright position or apart in a flat horizontal position. The linear relative position of the torso halves is controlled by linear moving means attached to the wheeled platforms or trucks such that at the maximum separation between the torso halves, the two halves of the target lays inclined on a brace so as to be out of horizontal alignment, preferably 5 to 10 degrees out of alignment. The slight inclination with the hinge at the head portion of the target elevated above the base assures that any lateral force will fold the two halves at the hinge rather than directing the force across two aligned members attached with a hinge.

USP 5,888,559—A press for compacting plastic explosive materials comprises a base plate, a support column upstanding from the base plate, a tubular housing mounted on an upper end of the column and extending widthwise of the column, a slide member slidably moveable in the tubular housing substantially parallel to the base plate and an elongated handle pivotally mounted at a distal end thereof on the slide member. A press piston is slidably disposed in a bore in the slide member and is slidably moveable in directions normal to the slide member, a distal end of the piston being disposed over the base plate, the piston having at a proximal end thereof a handle housing through which extends the handle, the handle housing having first and second rollers therein with the handle disposed between the rollers. Pivotal movement of the handle is operative to move the piston reciprocally toward and away from the base plate.

USP 5,890,836—Interlocking blocks for the stabilization of stream and river banks and coast lines, road bed embankments, and boat ramps, are made of concrete, and have a high proportion of open area. Interlocking connections between adjacent blocks are made by radial projecting members and recesses on the periphery of each block, the projecting members of one block fitting into the recesses on adjacent blocks. Projections and recesses are alternately provided at regular angular intervals such that blocks can be assembled in either square or an equilateral triangular patterns. A layer of filter cloth material is laid on the sloping surface and upon which the blocks are then placed; this filter cloth slows down the leaching of water through the open areas between the interlocking blocks and prevents the washing away of sand and silt by stream or river water or rainwater runoff.

USP 5,900,820—A system for detecting accretion of frazil ice on underwater gratings includes a housing for disposition beneath a water surface and spaced from but proximate an underwater intake grating. A pair of parallel electrically conducive bars are mounted side-by-side in the housing and extend therefrom. The bars are in communication with an electromagnetic wave generator in the housing. A coaxial transmission line is connected at a first end to the housing and in communication with the pair of bars for extension from the housing upwardly above the water surface. A monitoring station is disposed above the water surface for receiving signals from the bars, the monitoring station having a second end of the transmission line fixed thereto. The wave generator propagates electromagnetic waves to the bars for further travel to distal ends of the bars, and back to the housing and thence to the monitoring station. The monitoring station is adapted to compute wave round trip travel time in the bars and to compute changes in the round trip travel time, from which is determined absence, presence, and build-up of frazil ice on the bars, thereby providing an indication of same on the grating.

USP 5,902,939—The present invention pertains to a direct push small diameter fluorescence based penetrometer system for performing in situ spectral analysis on subsurface liquid or gaseous samples. The invention is configured to collect liquid or gaseous analyte samples within the penetrometer's sample chamber through a port that is juxtaposed to a heating element that accelerates the separation of volatile chemical materials from the soil matrix. Fiber optic cables are linked to surface mounted real-time data acquisition/processing equipment from the sample chamber. The penetrometer sampling device is also equipped with a standard penetrometer electric cone sensor module containing cone and sleeve strain sensors that are used to calculate soil classification/layering in real-time during penetration. The invention integrates soil classification/layering data with spectral signature data of suspect subsurface liquid or gaseous fluids for assessing whether the subsurface soil and ground water regions are contaminated without the requirement of transporting the sample and/or analyte to the surface for analysis. Moreover, the system integrates a means for grouting the bore hole upon retrieval of the penetrometer.

USP 5,913,179—A computer implemented method for analyzing data utilizes a program and computer for processing input data in the form of digitized map representing a physical structure. The microprocessor performs the steps and stores the results of the steps in an attached storage device. The computer is programmed to employ or use various linear scales to establish critical dimensions of the curve and to analyze the dimensions in terms of orthogonal components. These are also stored for later processing or analysis to predict physical behavior associated with the structure. In a particular embodiment the curve represents a river bottom and predictions may be made about flows and the like.

USP 5,995,451—The invention is a processor based analysis system with appropriate interface that includes multiple fish surrogates that each have a plurality of piezoelectric and triaxial accelerometer sensors for emulating sensory organs of a particular fish. The multiple fish surrogate array is immersed in flowing water intakes of hydraulic structures such as intakes, intake bypasses, and diversion structures, and natural geological formation such as riffles, shoal areas, and pools. The invention is an interface system for data acquisition analysis and perspective display of acoustic and fluid dynamic data in or near these hydraulic structures and/or natural formations. To accomplish this, multiple sensors in each of the fish-shaped surrogate physical enclosures that form the array are deployed at the same time to describe a fish's aquatic environment at the hydraulic structure location. The gathered data can then be correlated with fish behavior for the purpose of developing methods of diverting fish from such areas of danger of a water intake or to attract them to a water bypass entrance system.

USP 6,003,251—A debris separator for a dredge pump includes a body portion having a top wall, bottom wall, first and second side walls, and an aft end wall defining a separator outlet for connection to the pump, a funnel portion having an entry end defining a separator inlet and a larger discharge end fixed to a forward inlet end of the body portion. The separator further includes a door hingedly mounted on the body portion first side wall and spring biased to a closed position overlying an opening in the first side wall, and a floor in the body portion slanted toward the bottom wall and toward the first side wall opening. Thus, upon stopping of the pump, backpressure is generated in the body by backflow of water into the separator. Backpressure causes the hinged side door to open. Heavy objects which have fallen to the slanted floor, due to the reduction of flow velocity through the separator, are flushed out of the separator with discharge water. When the discharge line empties, or the pump is restarted, the door closes under the spring bias.

USP 6,032,538—A mounting device for pressure transducers comprises a housing with two chambers separated by an acoustic filter/heat sink. A blast shield having at least one opening allows communication between the measured environment and the first chamber and provides protection to the acoustic filter/heat sink film blast particles and flame. The acoustic filter/heat sink comprises a plurality of tortuous paths through a material having a high thermal conductivity and high specific gravity. The pressure transducer is located in the second chamber and is mounted on a thermally insulating mounting plate. The tortuous paths provide attenuation of high frequency, high amplitude pressure transients, cools the medium entering the filter due to the pressure transient and protects the transducer from corrosive particles and aerosols.

USP 6,047,782—An assembly for extracting discrete soil samples from subsurface soil at a plurality of selected depths includes an elongated outer tubular housing, and a soil sample tube for disposal in the outer tubular housing. The soil sample tube is movable axially in the outer tubular housing and provided with a feature thereon for locking the soil sample tube in the outer tubular housing in a fully inserted position in the outer tubular housing. The replaceable soil sample tube defines a sample chamber proximate a distal end thereof. The assembly further includes a cone tip assembly including a cone tip member and a cone tip rod, the cone tip member being fixed to a distal end of the cone tip rod. The cone tip rod is movable axially in the soil sample tube, the cone tip member having a locking feature thereon for locking the cone tip member at the distal end of the soil sample tube with a cone portion of the cone tip member extending distally beyond a distal end of the outer tubular housing. A method for extracting soil samples, utilizing the above assembly, is also contemplated.

USP 6,053,479—The invention relates to a passive snow removal system which deliberately forms vortices from a passing airflow and directs the vortices into scouring contact with snow accumulation on a target surface. The apparatus includes a base and a vortex producing plate rotatably mounted at an inclined angle relative to an upper portion of the base near the plate's center of mass. The geometry of the plate, which is preferably triangular, is used to aerodynamically form vortices from a passing airflow and direct the vortices onto a target surface. Once the vortices are in scouring contact with the target surface, they act upon the surface to dislodge and carry away any accumulated snow in the direction of the airflow and redeposit it downwind, thus removing the snow from the target surface.

USP 6,064,760—A method for rigorously reshaping a pair of overlapping digital images using a Digital Photogrammetric Workstation (DPW) is disclosed. The overlapping images are imported into the DPW as a pair of originally distorted images having an associated sensor model. The original images are triangulated to adjust sensor parameters. Orthophotos are created with a flat digital terrain matrix (DTM) to leave terrain displacements within themselves, and according to a sensor model and formula for exact projective computations. The orthophotos are aligned by rotation, and interior orientation coordinates of the equivalent vertical frame images are determined. The orthophotos are imported as a pair of overlapping equivalent vertical frame images according to the interior orientation coordinates. A digital terrain model is generated in the DPW using the overlapping equivalent vertical frame images. Another orthophoto is produced using the digital terrain model to remove the measured terrain displacements. In an alternative embodiment, the equivalent vertical frame images are aligned by using the classical pair-wise rectification method or by separately rotating each image without aligning the orthophotos by rotation during their creation. In each embodiment, the sensor model of the original distorted images is dissociated from the orthophotos for subsequently greater distribution and usage of the stereo imagery.

USP 6,084,393—A scour probe assembly comprises an elongated rigid tubular member of electrically insulative material, an anchoring structure fixed to a distal end of the tubular member, and a signal transmission device mounted on the tubular member. A pair of substantially parallel electrically conducive sensor lines are fixed to an external wall of the tubular member and extend along at least a portion of an axial length of the tubular member from a closed proximal end toward the distal end and extend through the closed proximal end to an interior of the tubular member. Electronic components are disposed in the interior of the tubular member and are interposed between ends of the sensor lines in the interior of the tubular member and the signal transmission device mounted in the tubular member.

USP 6,095,052—A bullet comprises a lead sheet and a zinc foil fixed to the lead sheet, the sheet and foil being rolled and pressure formed into a bullet having generally helical layers of the lead sheet and zinc foil. The bullet exhibits an improved environmental impact on soil, relative to all-lead bullets.

USP 6,104,298—A roof moisture detection assembly includes an imaging system for obtaining thermal and visible images of a roof surface, an imaging system support structure for mounting the imaging system in a position elevated relative to the roof surface, a reference target mounted on the roof surface, and an image-processing system adapted to compare current thermal and visible images of the roof surface with previous thermal and visible images of the roof surface and detect shapes and areas of anomalous features, and to compare the current thermal and visible images with each other and detect shapes and areas of anomalous features.

USP 6,109,486—Dry sand is “rained” or pluviated into a receptor container used in the study of soil mechanics. A supply vessel in the shape of an open-top rectangular box has four vertical side walls, a perforated bottom tray, and a slidable perforated tray in contact therewith, whereby sand flows by gravity from the supply vessel through perforations in the stationary and slidable trays and rains or pluviates into the receptor container when the slidable tray is in the “open” position, and sand is blocked from flowing from the supply vessel with the slidable tray in the “closed” position.

USP 6,116,353—A well assembly device comprises an outer tubular sleeve with a first end and second end. An inner tubular member has a first end and second end. An inner tubular member has a first end, and the inner tubular member is disposed within the outer tubular sleeve. The inner tubular member includes a screened portion at its second end. A tip is frictionally secured to the second end of the outer tubular sleeve, so that the outer tubular sleeve and the tip may selectively disengage.

Applications for an exclusive or partially exclusive license should contain the information set forth in 37 CFR 404.8. Applications will be evaluated utilizing the following criteria: (1) Ability to manufacture and market the technology; (2) Manufacturing and marketing capability; (3) Time required to bring technology to market and production rate; (4) Royalties; (5) Technical capabilities; and, (6) Small Business status.

Gregory D. Showalter,
Army Federal Register Liaison Officer.

[FR Doc. 00-31327 Filed 12-7-00; 8:45 am]

BILLING CODE 3710-92-P